DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Procedures for Importation of Supplies for Use in Emergency Relief Work.

Form Number(s): N/A.

OMB Control Number: 0625-0256.

Type of Request: Regular submission.

Burden Hours: 10.

Number of Respondents: 5.

Average Hours per Response: 2.

Needs and Uses: The regulations (19 CFR 358.101-104) provide procedures for requesting the Secretary of Commerce to permit the importation of supplies, such as food, clothing, medical, surgical, and other supplies (such as building materials), for use in emergency relief work free of antidumping and countervailing duties.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to Wendy Liberante, OMB Desk Officer, Fax number (202) 395-5167 or via the Internet at Wendy_L._Liberante@omb.eop.gov.

Dated: February 2, 2010.
Gwellnar Banks,
Management Analyst, Office of the Chief Information Officer.

[FR Doc. 2010-2512 Filed 2-4-10; 8:45 am]

BILLING CODE 3510-DS-P